DEPARTMENT OF TRANSPORTATION

Federal Highway Administration

Notice of Final Federal Agency Actions on Proposed Highway Projects in Texas

AGENCY: Federal Highway Administration (FHWA), DOT.

ACTION: Notice of limitation on claims for judicial review.

SUMMARY: The FHWA, on behalf of the Texas Department of Transportation (TxDOT), is issuing this notice to announce actions taken by TxDOT and other Federal agencies that are final agency actions. The actions relate to various proposed highway projects in the State of Texas. These actions grant licenses, permits, and approvals for the projects.

DATES: By this notice, the FHWA, on behalf of TxDOT, is advising the public of final agency actions subject to 23 U.S.C. 139(l)(1). A claim seeking judicial review of the Federal Agency actions on the highway projects listed below will be barred unless the claim is filed on or before December 16, 2025. If the Federal law that authorizes judicial review of a claim provides a time period of less than 150 days for filing such a claim, then that shorter time period still applies.

FOR FURTHER INFORMATION CONTACT: Patrick Lee, Environmental Affairs Division, Texas Department of Transportation, 125 East 11th Street, Austin, Texas 78701; telephone: (512) 419-8604; email: Patrick.Lee@txdot.gov. TxDOT's normal business hours are 8 a.m. to 5 p.m. (Central Standard Time), Monday through Friday, except State holidays.

SUPPLEMENTARY INFORMATION: The environmental review, consultation, and other actions required by applicable Federal environmental laws for these projects are being, or have been, carried out by TxDOT pursuant to 23 U.S.C. 327 and a Memorandum of Understanding dated December 9, 2019, and executed by the FHWA and TxDOT.

Notice is hereby given that TxDOT and Federal agencies have taken final agency actions by issuing licenses, permits, and approvals for the highway projects in the State of Texas that are listed below.

The actions by TxDOT and Federal agencies and the laws under which such actions were taken are described in the Categorical Exclusion (CE), Environmental Assessment (EA), or Environmental Impact Statement (EIS) issued in connection with the projects and in other key project documents. The CE, EA, or EIS and other key documents for the listed projects are available by contacting the local TxDOT office at the address or telephone number provided for each project below.

This notice applies to all TxDOT and Federal agency decisions as of the issuance date of this notice and all laws under which such actions were taken, including but not limited to:

1. General: National Environmental Policy Act (NEPA) [42 U.S.C. 4321 et seq.]; Federal-Aid Highway Act [23 U.S.C. 109 and 23 U.S.C. 128]; 23 CFR part 771.

2. Air: Clean Air Act [42 U.S.C. 7401-7671(q)].

3. Noise: Noise Control Act of 1972 [42 U.S.C. 4901-4918]; 23 CFR part 772.

4. Land: Section 4(f) of the Department of Transportation Act of 1966 [23 U.S.C. 138 and 49 U.S.C. 303]; 23 CFR part 774; Land and Water Conservation Fund (LWCF) [54 U.S.C. 200302-200310]; Landscaping and Scenic Enhancement (Wildflowers) [23 U.S.C. 319].

5. Wildlife: Endangered Species Act [16 U.S.C. 1531-1544 and 1536], Marine Mammal Protection Act [16 U.S.C. 1361-1423h]; Anadromous Fish Conservation Act [16 U.S.C. 757(a)-757(f)]; Fish and Wildlife Coordination Act [16 U.S.C. 661-667(d)]; Migratory Bird Treaty Act [16 U.S.C. 703-712]; Magnuson-Stevenson Fishery Conservation and Management Act of 1976, as amended [16 U.S.C. 1801-1891d], with Essential Fish Habitat requirements [16 U.S.C. 1855(b)(2)].

6. Historic and Cultural Resources: Section 106 of the National Historic Preservation Act of 1966, as amended [54 U.S.C. 300101 et seq.]; Archaeological Resources Protection Act of 1979 (ARPA) [16 U.S.C. 470(aa)-470(II)]; Preservation of Historical and Archaeological Data [54 U.S.C. 312501-312508]; Native American Grave Protection and Repatriation Act (NAGPRA) [25 U.S.C. 3001-3013; 18 U.S.C. 1170].

7. Social and Economic: Civil Rights Act of 1964 [42 U.S.C. 2000(d)-2000(d)(1)]; American Indian Religious Freedom Act [42 U.S.C. 1996]; Farmland Protection Policy Act (FPPA) [7 U.S.C. 4201-4209].

8. Wetlands and Water Resources: Clean Water Act [33 U.S.C. 1251-1377] (Section 404, Section 401, Section 319); Coastal Barriers Resources Act (CBRA) [16 U.S.C. 3501-3510]; Coastal Zone Management Act (CZMA) [16 U.S.C. 1451-1466]; Safe Drinking Water Act (SDWA) [42 U.S.C. 300f-300j-26]; Rivers and Harbors Act of 1899 [33 U.S.C. 401-406]; Wild and Scenic Rivers Act [16 U.S.C. 1271-1287]; Emergency Wetlands Resources Act [16 U.S.C. 3921, 3931]; Wetlands Mitigation, [23 U.S.C. 119(g) and 133(b)(3)]; Flood Disaster Protection Act [42 U.S.C. 4001-4130].

9. Hazardous Materials: Comprehensive Environmental Response, Compensation, and Liability Act (CERCLA) [42 U.S.C. 9601-9675]; Superfund Amendments and Reauthorization Act of 1986 (SARA); Resource Conservation and Recovery Act (RCRA) [42 U.S.C. 6901-6992(k)].

10. Executive Orders: E.O. 11990 Protection of Wetlands; E.O. 11988 Floodplain Management; E.O. 11593 Protection and Enhancement of Cultural Resources; E.O. 13007 Indian Sacred Sites; E.O. 13287 Preserve America; E.O. 13175 Consultation and Coordination with Indian Tribal Governments; E.O. 13112 Invasive Species.

The projects subject to this notice are:

1. FM 528 from BS 35-C to SL 409 (SH 35 bypass), Brazoria County, Texas. The improvements include reconstructing FM 528 from a two-lane roadway to a four-lane divided roadway for 0.6 mile. The actions by TxDOT and Federal agencies and the laws under which such actions were taken are described in the Categorical Exclusion Determination issued on March 6, 2025, and other documents in the TxDOT project file. The Categorical Exclusion Determination and other documents in the TxDOT project file are available by contacting the TxDOT Houston District Office located at 7600 Washington Avenue, Houston, TX 77007; telephone: (713) 802-5000.

2. US 59 from 0.74 mile south of FM 223 to 0.70 north of the Trinity River, San Jacinto County, Texas. The project will reconstruct the US 59 mainlanes providing two lanes in each direction and new one-way, two-lane northbound and southbound frontage roads. The project will be designed to meet interstate standards for potential future designation as I-69. Improvements will also include construction of new Trinity River bridges with turnarounds, overpasses with U-turns at FM 1127 and SL 424/Lake Pool Road, a U-turn at FM 223 from southbound US 49 to northbound US 59, and pedestrian accommodations along the frontage roads from FM 223 north to SL 424/Lake Pool Road. The project is approximately 6.46 miles in length. The actions by TxDOT and Federal agencies and the laws under which such actions were taken are described in the Categorical Exclusion Determination issued on April 14, 2025, and other documents in the TxDOT project file. The Categorical Exclusion Determination and other documents in the TxDOT project file are available by contacting the TxDOT Lufkin District Office at 1805 N Timberland Drive, Lufkin, TX 75901; telephone: (936) 634-4433.

3. Lakeline Boulevard from FM 734 (Parmer Lane) to Lyndhurst Street, Williamson County, Texas. The project will widen Lakeline Boulevard from a two-lane to a four-lane divided roadway. The project will also install new stormwater, pedestrian, and bicycle facilities. The project is 1.15 miles in length. The actions by TxDOT and Federal agencies and the laws under which such actions were taken are described in the Categorical Exclusion Determination issued on April 14, 2025, and other documents in the TxDOT project file. The Categorical Exclusion Determination and other documents in the TxDOT project file are available by contacting the TxDOT Austin District Office at 7901 North I-35, Austin, TX 78753; telephone: (512) 832-7000.

4. Greenlee Drive at Tippit Middle School, Williamson County, Texas. This is a mitigation project for the RM 2243 road construction project. The project includes landscaping, a modern cave gate, signage and walking trails. The project area is approximately 6.5 acres. The actions by TxDOT and Federal agencies and the laws under which such actions were taken are described in the Categorical Exclusion Determination issued on April 17, 2025, and other documents in the TxDOT project file. The Categorical Exclusion Determination and other documents in the TxDOT project file are available by contacting the TxDOT Austin District Office at 7901 North I-35, Austin, TX 78753; telephone: (512) 832-7000.

5. FM 974 (Tabor Road) at SH 6 Intersection, Brazos County, Texas. The project includes widening Tabor Road on the east side of SH 6 as it approaches the northbound frontage road intersection to improve traffic flow, including a dedicated right-turn lane, an additional through lane, and a center turn lane. The project will also add left-turn lane improvements in the SH 6 underpass area to increase turning capacity from Tabor Road to the SH 6 northbound and southbound frontage roads. The project will also reconfigure the SH 6 southbound frontage road at Wilkes Street to one-way only, and remove the northbound Tabor Road segment. The project will also construct an approximately 10-foot-wide shared use path for pedestrians and bicyclists on Tabor Road from Shirley Drive to the SH 6 southbound frontage road that will connect to the existing shared use path network on Wilkes Street. The actions by TxDOT and Federal agencies and the laws under which such actions were taken are described in the Categorical Exclusion Determination issued on April 24, 2025, and other documents in the TxDOT project file. The Categorical Exclusion Determination and other documents in the TxDOT project file are available by contacting the TxDOT Bryan District Office at 2591 North Earl Rudder Freeway, Bryan, Texas 77803, (979) 778-2165.

6. US 77 from FM 2440 to SH 21, Lee County, Texas. This project widens US 77 from a 4-lane undivided roadway to a 4-lane divided roadway with a depressed, grassy median. The project is 8.1 miles long. The actions by TxDOT and Federal agencies and the laws under which such actions were taken are described in the Categorical Exclusion Determination issued on May 15, 2025, and other documents in the TxDOT project file. The Categorical Exclusion Determination and other documents in the TxDOT project file are available by contacting the TxDOT Austin District Office at 7901 North I-35, Austin, TX 78753; telephone: (512) 832-7000.

7. SH 158 from Sinclair Ave to Wadley Ave, Midland County, Texas. The project will widen SH 158 in Midland to add an additional 12-foot travel lane in each direction and 12-foot turn lanes at Brandy Hill Rd and Wadley Ave. A seven- to 20-foot concrete median will be constructed throughout the entire limits of project. The actions by TxDOT and Federal agencies and the laws under which such actions were taken are described in the Categorical Exclusion Determination issued on May 28, 2025, and other documents in the TxDOT project file. The Categorical Exclusion Determination and other documents in the TxDOT project file are available by contacting the TxDOT Odessa District Office at 3901 E Highway 80, Odessa, TX 79761; telephone: (432) 498-4697.

8. Loop 338 from E Yukon Road to US 385 North, Ector County, Texas. The project will convert the existing Loop 338 to a four-lane divided freeway with frontage roads in each direction. In addition, a 10-foot shared-use path will be constructed to accommodate bicyclists and pedestrians on the outside of the frontage roads. Overpasses will be constructed on Loop 338 at Grandview Avenue/FM 554, 87th Street, and 100th Street. The actions by TxDOT and Federal agencies and the laws under which such actions were taken are described in the Categorical Exclusion Determination issued on May 28, 2025, and other documents in the TxDOT project file. The Categorical Exclusion Determination and other documents in the TxDOT project file are available by contacting the TxDOT Odessa District Office at 3901 E Highway 80, Odessa, TX 79761; telephone: (432) 498-4697.

9. FM 1777 from SH 66 to FM 6, Collin County, Texas. The project includes reconstruction to an ultimate phase of six 12-foot-wide travel lanes (3 lanes in each direction), with an interim phase of four 12-foot-wide lanes (2 lanes in each direction). The project accommodates an ultimate configuration of six 12-foot-wide travel lanes. The roadway facility will also include shoulders, turn lanes, a sidewalk, and a shared-use path. The shared-use path will be included along the east side of the corridor and the sidewalk will be on the west side. This project is approximately 6.02 miles in length. The actions by TxDOT and Federal agencies and the laws under which such actions were taken are described in Finding of No Significant Impact (FONSI) issued on March 28, 2025, and other documents in the TxDOT project file. The EA, FONSI and other documents in the TxDOT project file are available by contacting the TxDOT Dallas District Office at 4777 E. Highway 80, Mesquite, TX 75150; telephone: (214) 320-4480.

10. US 271 from Loop 286 to SH 37, Lamar and Red River Counties, Texas. The project includes expansion of the existing two-lane facility to a four-lane divided highway facility. The proposed facility will include four dedicated 12-foot-wide travel lanes with 10-foot-wide outside shoulders throughout the corridor. The project is approximately 20.6 miles in length. The actions by TxDOT and Federal agencies and the laws under which such actions were taken are described in the Final EA, the FONSI issued on April 4, 2025, and other documents in the TxDOT project file. The EA, FONSI, and other documents in the TxDOT project file are available by contacting the TxDOT Paris District Office at 1365 N Main Street, Paris, TX 75460; telephone: (903) 737-9206.

11. Old Conroe Road/Sgt Ed Holcomb Blvd., from FM 1488 to Loop 336, Montgomery County, Texas. The project will widen Old Conroe Road from two to four travel lanes and extend the roadway across the West Fork San Jacinto River with a new bridge. The project length is approximately 5.7 miles. The actions by TxDOT and Federal agencies and the laws under which such actions were taken are described in the Final EA, the FONSI issued on April 6, 2025, and other documents in the TxDOT project file. The EA, FONSI, and other documents in the TxDOT project file are available by contacting the TxDOT Houston District Office located at 7600 Washington Avenue, Houston, TX 77007; telephone: (713) 802-5000.

12. US 82 from the Fannin County Line to Loop 286, Lamar County, Texas. The project will widen and reconstruct approximately 16 miles of US 82. From the Fannin County Line to CR 33010, the roadway will include two 12-foot-wide travel lanes in each direction, a 10-foot-wide outside shoulder, a 4-foot-wide inside shoulder, and a 44- to 68-foot wide depressed median. From County Road 33010 to Loop 286, the roadway will include two 12-foot-wide travel lanes in each direction, a 10-foot-wide outside shoulder and a 16-foot-wide two-way left turn lane. Approximately one mile west of Loop 286, a 10-foot-wide sidewalk and curb section would be provided on the south side of US 82. The actions by TxDOT and Federal agencies and the laws under which such actions were taken are described in the Final EA, the FONSI issued on April 23, 2025, and other documents in the TxDOT project file. The EA, FONSI, and other documents in the TxDOT project file are available by contacting the TxDOT Paris District Office at 1365 N Main Street, Paris, TX 75460; telephone: (903) 737-9206.

13. SH 68 from I-2/US 83 to I-69C/US 281, Hidalgo County, Texas. The project will construct a new location four-lane rural highway facility with future mainlanes and overpasses for approximately 22 miles from I-2/US 83 to I-69C/US 281. The actions by TxDOT and Federal agencies and the laws under which such actions were taken are described in the Final EIS dated March 27, 2025, the Record of Decision (ROD) dated May 13, 2025, and other documents in the TxDOT project file. The Final EIS, ROD, and other documents in the TxDOT project file are available by contacting the TxDOT Pharr District Office at 600 W Interstate 2, Pharr, TX 78577; telephone: (956) 702-6101.

(Catalog of Federal Domestic Assistance Program Number 20.205, Highway Planning and Construction. The regulations implementing Executive Order 12372 regarding intergovernmental consultation on Federal programs and activities apply to this program.)

(Authority: 23 U.S.C. 139(l)(1)).

Issued on: July 8, 2025.
Ed Burgos-Gomez,
Acting Director Program Development, Federal Highway Administration.

[FR Doc. 2025-12884 Filed 7-9-25; 8:45 am]

BILLING CODE 4910-RY-P